DEPARTMENT OF THE INTERIOR

Fish and Wildlife Service

Red River National Wildlife Refuge

AGENCY: Fish and Wildlife Service; Department of the Interior.

ACTION: Notice.

SUMMARY: The Director of the U.S. Fish and Wildlife Service has approved the establishment of Red River National Wildlife Refuge, located along the Red River Waterway in Caddo, Bossier, Red River, Natchitoches, and De Soto Parishes, Louisiana.

DATES: This action was effective on December 23, 2002.

FOR FURTHER INFORMATION CONTACT: George Chandler, Project Leader, Red River National Wildlife Refuge, c/o North Louisiana Refuges' Complex, 11372 Highway 143, Farmerville, Louisiana 71241; telephone: 318/726-4222, fax: 318/726-4667, e-mail: George_Chandler@fws.gov.

SUPPLEMENTARY INFORMATION: The Director of the Fish and Wildlife Service has approved the establishment of Red River National Wildlife Refuge to provide for the restoration and conservation of native plant and animal communities on suitable sites in the Red River Valley, including restoration of extirpated species; to provide habitat to more than 350 species of birds (including migratory and resident waterfowl, shorebirds, and neotropical migratory birds), aquatic life, and a wide array of other species associated with river basin ecosystems; and to provide technical to private landowners in the restoration of their lands for the benefit of fish and wildlife.

Authority: This notice is published under this authority of the Red River National Wildlife Refuge Act, Pub. L. 106-300, and the National Wildlife Refuge System Administration Act of 1966, as amended (16 U.S.C., 668dd-668ee).

Dated: December 16, 2002.
Sam D. Hamilton,
Regional Director.

[FR Doc. 02-32211 Filed 12-20-02; 8:45 am]

BILLING CODE 4310-55-M